DEPARTMENT OF COMMERCE

Foreign-Trade Zones Board

[S-100-2021]

Foreign-Trade Zone 50—Long Beach, California, Application for Expansion of Subzone 50R, VF Outdoor, LLC, Corona, Ontario, and Santa Fe Springs, California

An application has been submitted to the Foreign-Trade Zones (FTZ) Board by the Port of Long Beach, grantee of FTZ 50, requesting an expansion of Subzone 50R on behalf of VF Outdoor, LLC, located in Ontario, California. The application was submitted pursuant to the provisions of the Foreign-Trade Zones Act, as amended (19 U.S.C. 81a-81u), and the regulations of the FTZ Board (15 CFR part 400). It was formally docketed on July 12, 2021.

Subzone 50R consists of the following sites: Site 1 (13.55 acres) 3950 East Airport Drive, Ontario, San Bernardino County; Site 2 (22.09 acres) 15614-15620 and 15700 Shoemaker Avenue, Santa Fe Springs, Los Angeles County; and, Site 3 (11.5 acres) 2571 Sampson Avenue, Corona, Riverside County.

The applicant is now requesting authority to expand the subzone to include an additional site (54.78 acres) located at 5051 South Carpenter Avenue, Ontario, San Bernardino County, which would be designated as Site 4. The expanded subzone would be subject to the existing activation limit of FTZ 50.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is August 25, 2021. Rebuttal comments in response to material submitted during the foregoing period may be submitted during the subsequent 15-day period to September 9, 2021.

A copy of the application will be available for public inspection in the “Reading Room” section of the FTZ Board's website, which is accessible via www.trade.gov/ftz.

For further information, contact Qahira El-Amin at Qahira.El-Amin@trade.gov.

Dated: July 12, 2021.
Andrew McGilvray,
Executive Secretary.

[FR Doc. 2021-15128 Filed 7-15-21; 8:45 am]

BILLING CODE 3510-DS-P